OFFICE OF THE UNITED STATES TRADE REPRESENTATIVE

Notice of Meeting of the Industry Trade Advisory Committee on Small and Minority Business (ITAC-11)

AGENCY: Office of the United States Trade Representative.

ACTION: Notice of a partially opened meeting.

SUMMARY: The Industry Trade Advisory Committee on Small and Minority Business (ITAC-11) will hold a meeting on Monday, October 3, 2005, from 9 a.m. to 3 p.m. The meeting will be opened to the public from 9 a.m. to 12 p.m. and closed to the public from 12 p.m. to 3 p.m.

DATES: The meeting is scheduled for October 3, 2005, unless otherwise notified.

ADDRESSES: The meeting will be held at the Marriott Greensboro High Point—Magnolia Inn, located at One Marriott Drive, Greensboro, North Carolina 27409 (336) 852-6450.

FOR FURTHER INFORMATION CONTACT: Heather Tomasetti, DFO for ITAC-11 at (202) 482-3487, Department of Commerce, 14th Street and Constitution Avenue, NW., Washington, DC 20230.

SUPPLEMENTARY INFORMATION: During the opened portion of the meeting the following agenda items will be considered.

• North Carolina Trade Policy Agenda Update by Senator Kay Hagan

• Overview of the Greensboro Triad Foreign Trade Zone Operations

• Overview of Greensboro Chamber of Commerce, Small Business Development Program, activities and Fiscal Year 2006 Trade Agenda

• U.S. Commercial Service Programs and Services to Assist Small and Medium-Sized Business

• Briefing on Updated Functions of “Notify U.S.” Service

• Textile Industry Update and Opportunities for North Carolina Manufacturers

Christina R. Sevilla,
Acting Assistant U.S. Trade Representative for Intergovernmental Affairs and Public Liaison.

[FR Doc. 05-18822 Filed 9-20-05; 8:45 am]

BILLING CODE 3190-W5-P